DEPARTMENT OF LABOR

Employment and Training Administration

[NAFTA-4618]

Eagle Knits of Stanfield Inc., Norwood, NC; Notice of Termination of Investigation

Pursuant to title V of the North American Free Trade Agreement Implementation Act (Pub. L. 103-182) concerning transitional adjustment assistance, hereinafter called (NAFTA-TAA), and in accordance with section 250(a), subchapter D, chapter 2, title II, of the Trade Act of 1974, as amended (19 U.S.C. 2273), an investigation was initiated on March 8, 2001, in response to a petition filed on behalf of workers at Eagle Knits of Stanfield, Inc., Norwood, North Carolina.

The petitioner requested that the petition for NAFTA-TAA be withdrawn. Consequently, further investigation in this case would serve no purpose, and the investigation has been terminated.

Signed at Washington, DC, this 24th day of April, 2001.
Linda G. Poole,
Certifying Officer, Division of Trade Adjustment Assistance.

[FR Doc. 01-11107 Filed 5-2-01; 8:45 am]

BILLING CODE 4510-30-M